Title 3—

The President

Proclamation 9145 of June 26, 2014

To Take Certain Actions Under the African Growth and Opportunity Act and for Other Purposes

By the President of the United States of America

A Proclamation

1. In Proclamation 8468 of December 23, 2009, I determined that the Republic of Madagascar (Madagascar) was not making continual progress in meeting the requirements described in section 506A(a)(1) of the Trade Act of 1974 (the “1974 Act”) (19 U.S.C. 2466a(a)), as added by section 111(a) of the African Growth and Opportunity Act (title I of Public Law 106-200) (AGOA). Thus, pursuant to section 506A(a)(3) of the 1974 Act (19 U.S.C. 2466a(a)(3)), I terminated the designation of Madagascar as a beneficiary sub-Saharan African country for purposes of section 506A of the 1974 Act.

2. Section 506A(a)(1) of the 1974 Act authorizes the President to designate a country listed in section 107 of the AGOA (19 U.S.C. 3706) as a beneficiary sub-Saharan African country if the President determines that the country meets the eligibility requirements set forth in section 104 of the AGOA (19 U.S.C. 3703), as well as the eligibility criteria set forth in section 502 of the 1974 Act (19 U.S.C. 2462).

3. Pursuant to section 506A(a)(1) of the 1974 Act, based on actions that the Government of Madagascar has taken, I have determined that Madagascar meets the eligibility requirements set forth in section 104 of the AGOA and section 502 of the 1974 Act, and I have decided to designate Madagascar as a beneficiary sub-Saharan African country.

4. Section 506A(a)(3) of the 1974 Act (19 U.S.C. 2466a(a)(3)) authorizes the President to terminate the designation of a country as a beneficiary sub-Saharan African country for purposes of section 506A if he determines that the country is not making continual progress in meeting the requirements described in section 506A(a)(1) of the 1974 Act.

5. Pursuant to section 506A(a)(3) of the 1974 Act, I have determined that the Kingdom of Swaziland is not making continual progress in meeting the requirements described in section 506A(a)(1) of the 1974 Act. Accordingly, I have decided to terminate the designation of the Kingdom of Swaziland as a beneficiary sub-Saharan African country for purposes of section 506A of the 1974 Act, effective on January 1, 2015.

NOW, THEREFORE, I, BARACK OBAMA, President of the United States of America, by virtue of the authority vested in me by the Constitution and the laws of the United States of America, including but not limited to title V and section 604 of the 1974 Act (19 U.S.C. 2461-67, 2483), and section 104 of the AGOA (19 U.S.C. 3703), do proclaim that:

(1) Madagascar is designated as a beneficiary sub-Saharan African country.

(2) In order to reflect this designation in the Harmonized Tariff Schedule of the United States (HTS), general note 16(a) to the HTS is modified by inserting in alphabetical sequence in the list of beneficiary sub-Saharan African countries “Republic of Madagascar (Madagascar).” Further, note 2(d) to subchapter XIX of chapter 98 is modified by inserting in alphabetical sequence in the list of lesser developed beneficiary sub-Saharan African countries “Republic of Madagascar.”

(3) The designation of the Kingdom of Swaziland as a beneficiary sub-Saharan African country for purposes of section 506A of the 1974 Act is terminated, effective on January 1, 2015.

(4) In order to reflect in the HTS that beginning on January 1, 2015, the Kingdom of Swaziland shall no longer be designated as a beneficiary sub-Saharan African country, general note 16(a) to the HTS is modified by deleting “Kingdom of Swaziland” from the list of beneficiary sub-Saharan African countries. Note 7(a) to subchapter II and note 1 to subchapter XIX of chapter 98 of the HTS are modified to delete “Swaziland,” from the list of beneficiary countries. Further, note 2(d) to subchapter XIX of chapter 98 of the HTS is modified by deleting “Swaziland” from the list of lesser developed beneficiary sub-Saharan African countries.

(5) Any provisions of previous proclamations and Executive Orders that are inconsistent with the actions taken in this proclamation are superseded to the extent of such inconsistency.

IN WITNESS WHEREOF, I have hereunto set my hand this twenty-sixth day of June, in the year of our Lord two thousand fourteen, and of the Independence of the United States of America the two hundred and thirty-eighth.

[FR Doc. 2014-15619

Filed 6-30-14; 11:15 am]

Billing code 3295-F4